DEPARTMENT OF THE INTERIOR

Bureau of Land Management

[BLM_OR_FRN_MO4500178550]

Public Meeting for the John Day-Snake Resource Advisory Council, Oregon

AGENCY: Bureau of Land Management, Interior.

ACTION: Notice of public meetings.

SUMMARY: In accordance with the Federal Land Policy and Management Act of 1976 and the Federal Advisory Committee Act of 1972, the U.S. Department of the Interior, Bureau of Land Management's (BLM) John Day-Snake Resource Advisory Council (RAC) will meet as follows.

DATES: The John Day-Snake Resource Advisory Council will meet Thursday, June 6 from 1 p.m. to 4:30 p.m. Pacific Time (PT) and participate in a field tour Friday, June 7, 2024, to the National Historic Oregon Trail Interpretive Center from 9 a.m. to noon PT. The meeting will be held, and the field tour will commence and conclude, at the BLM Baker Field Office, 3100 H St., Baker City, OR 97814. A virtual participation option for the June 6 meeting will also be available.

Thirty-minute public comment periods will be offered at 3 p.m. PT June 6; and at 9:05 a.m. PT June 7.

ADDRESSES: The final agenda and contact information regarding Zoom participation details will be published on the RAC's web page at least 10 days in advance at https://www.blm.gov/get-involved/resource-advisory-council/near-you/oregon-washington/john-day-rac.

Comments to the RAC can be mailed to: BLM Vale District, Attn. Shane DeForest, 100 Oregon St., Vale, OR 97918.

FOR FURTHER INFORMATION CONTACT: Larisa Bogardus, Public Affairs Specialist, 3100 H. St., Baker City, OR 97814; telephone: 541-523-1407; email: lbogardus@blm.gov. Individuals in the United States who are deaf, blind, hard of hearing, or have a speech disability may dial 711 (TTY, TDD, or TeleBraille) to access telecommunications relay services. Individuals outside the United States should use the relay services offered within their countries to make international calls to the point-of-contact in the United States.

SUPPLEMENTARY INFORMATION: The 15-member RAC was chartered, and members appointed, by the Secretary of the Interior. Its diverse perspectives are represented in commodity, non-commodity, and local area interests. The RAC provides advice to BLM and, as needed, to U.S. Forest Service resource managers regarding management plans and proposed resource actions on public land in the John Day-Snake area. The meeting is open to the public in its entirety. Information to be distributed to the RAC must be provided to its members prior to the start of each meeting.

June 6 agenda items include management of energy and minerals, timber, rangeland and grazing, commercial and dispersed recreation, wildland fire and fuels, wild horses and burro management, and agency updates from the Vale and Prineville BLM Districts and the Wallowa-Whitman, Umatilla, Malheur, Ochoco, and Deschutes National Forests; and any other business that may reasonably come before the RAC. The Designated Federal Officer will attend the meeting, take minutes, and publish the minutes on the RAC's web page at https://www.blm.gov/get-involved/resource-advisory-council/near-you/oregon-washington/john-day-rac. Members of the public are welcome to participate in the June 7 field tour to the National Historic Oregon Trail Interpretive Center but must provide their own transportation and meals.

For sign language interpreter services, assistive listening devices, or other reasonable accommodations, please contact (FOR FURTHER INFORMATION CONTACT) 7 business days before the meeting to ensure there is sufficient time to process the request. The Department of the Interior manages accommodation requests on a case-by-case basis.

The public may send written comments to the RAC in response to material presented (see ADDRESSES).

Before including your address, phone number, email address, or other personal identifying information in your comments, please be aware that your entire comment—including your personal identifying information—may be made publicly available at any time. While you can ask us in your comment to withhold your personal identifying information from public review, we cannot guarantee we will be able to do so.

(Authority: 43 CFR 1784.4-2)

Shane DeForest,
Vale District Manager.

[FR Doc. 2024-07909 Filed 4-12-24; 8:45 am]

BILLING CODE 4331-24-P